DEPARTMENT OF LABOR

Bureau of Labor Statistics

Information Collection Activities; Comment Request

AGENCY: Bureau of Labor Statistics, Department of Labor.

ACTION: Notice of information collection, request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed revision of a currently approved collection “National Longitudinal Survey of Youth 1979.” A copy of the proposed information collection request can be obtained by contacting the individual listed in the Addresses section of this notice.

DATES: Written comments must be submitted to the office listed in the Addresses section below on or before February 26, 2018.

ADDRESSES: Send comments to Nora Kincaid, BLS Clearance Officer, Division of Management Systems, Bureau of Labor Statistics, Room 4080, 2 Massachusetts Avenue NE, Washington, DC 20212. Written comments also may be transmitted by fax to 202-691-5111 (this is not a toll free number).

FOR FURTHER INFORMATION CONTACT: Nora Kincaid, BLS Clearance Officer, 202-691-7628 (this is not a toll free number). (See ADDRESSES section.)

SUPPLEMENTARY INFORMATION:

I. Background

The National Longitudinal Survey of Youth 1979 (NLSY79) is a representative national sample of persons who were born in the years 1957 to 1964 and lived in the U.S. in 1978. These respondents were ages 14 to 22 when the first round of interviews began in 1979; they will be ages 53 to 60 as of December 31, 2017. The NLSY79 was conducted annually from 1979 to 1994 and has been conducted biennially since 1994. The longitudinal focus of this survey requires information to be collected from the same individuals over many years in order to trace their education, training, work experience, fertility, income, and program participation.

In addition to the main NLSY79, the biological children of female NLSY79 respondents have been surveyed since 1986. A battery of child cognitive, socio-emotional, and physiological assessments has been administered biennially since 1986 to NLSY79 mothers and their children. Starting in 1994, children who had reached age 15 by December 31 of the survey year (the Young Adults) were interviewed about their work experiences, training, schooling, health, fertility, self-esteem, and other topics. Funding for the NLSY79 Child and Young Adult surveys is provided by the Eunice Kennedy Shriver National Institute of Child Health and Human Development through an interagency agreement with the BLS and through a grant awarded to researchers at the Ohio State University Center for Human Resource Research (CHRR). The interagency agreement funds data collection for children and young adults up to age 24. The grant funds data collection for young adults age 25 and older.

One of the goals of the Department of Labor (DOL) is to produce and disseminate timely, accurate, and relevant information about the U.S. labor force. The BLS contributes to this goal by gathering information about the labor force and labor market and disseminating it to policymakers and the public so that participants in those markets can make more informed, and thus more efficient, choices. Research based on the NLSY79 contributes to the formation of national policy in the areas of education, training, employment programs, and school-to-work transitions. In addition to the reports that the BLS produces based on data from the NLSY79, members of the academic community publish articles and reports based on NLSY79 data for the DOL and other funding agencies. To date, more than 2,793 articles examining NLSY79 data have been published in scholarly journals. The survey design provides data gathered from the same respondents over time to form the only data set that contains this type of information for this important population group. Without the collection of these data, an accurate longitudinal data set could not be provided to researchers and policymakers, thus adversely affecting the DOL's ability to perform its policy- and report-making activities.

II. Current Action

The BLS seeks approval to conduct round 28 of the NLSY79 and the associated surveys of biological children of female NLSY79 respondents.

The Young Adult Survey will be administered to young adults age 12 and older who are the biological children of female NLSY79 respondents. These young adults will be contacted regardless of whether they reside with their mothers.

Members of the Young Adult grant sample are contacted for interviews every other round once they reach age 31. The NLSY79 Young Adult Survey involves interviews with approximately 6,326 young adults ages 12 and older.

During the field period, about 10 main NLSY79 interviews will be validated to ascertain whether the interview took place as the interviewer reported and whether the interview was done in a polite and professional manner.

BLS has undertaken a continuing redesign effort to examine the current content of the NLSY79 and provide direction for changes that may be appropriate as the respondents age. The 2018 instrument reflects a number of changes recommended by experts in various fields of social science and by our own internal review of the survey's content. Additions to the questionnaire are accompanied by deletions of previous questions so that the overall time required to complete the survey should remain about the same as compared to 2016.

The round 28 questionnaire includes new questions on job characteristics, spouse's health, cognition, pain and use of pain killers, and retirement financing. In addition, a new module that assesses the respondents' health as they turn age 60 will be included for the first time.

Questions on job characteristics will be added to the employment section for Round 28. All respondents (male and female) who have held a job since their last interview will be asked these questions about each job held since the date of their last interview. The questions ask about job stress, job flexibility, and workplace accommodations. Two new questions that ask about spouse's health will be added to the section on spouse labor supply. They ask the respondent to rank spouse's physical health and emotional health as excellent, very good, good, fair, or poor.

In the health section, two types of questions that assess cognition will be added to Round 28. All respondents will be asked questions that assess cognition. The first type ask the respondent to self-rate memory and change in memory. Respondents have been asked these questions previously. The second type is the “Animal Naming Test.” The respondent is asked to name as many animals as s/he can in one minute. In addition, in the health section round 28, two questions on pain and three questions on use of painkillers will be asked of all respondents. The reference period for both pain and use of pain medication is the last 30 days. The questions ask whether the respondents suffer from chronic pain and how frequently, whether they have taken pain medication, whether the medicine taken can be purchased over-the-counter, and whether the medicine was taken in a way not directed by a doctor.

Round 28 introduces a module of health questions asked of respondents who have reached age 60. Most of the questions that make up the Age-60 Health module have been asked in previous rounds at ages 40 and 50; topics include depression, health of the respondent's biological parents, physical functioning, pain, health limits on daily activities, chronic conditions, functional limitations, sleep, and an open-ended question asking whether the respondent wants to report anything additional about his or her health.

Round 28 bolsters the retirement expectations section to collect new information on how the respondents plan to fund their retirement and on their knowledge about Social Security. We will add questions on whether, at what age, and how much per month the respondent expects to collect Social Security retirement benefits. We will ask similar questions for employer-based pensions and Individual Retirement Accounts. In all three instances, parallel questions will be asked about the spouse/partner's expected sources of income. We will also ask the estimated value of other assets the respondent might live off of during retirement and whether she expects support from family members. The questions on knowledge of Social Security benefits will ask about the timing of starting retirement benefits and several true/false questions that ask about what entitles one to Social Security retirement benefits and how the timing of claiming affects the benefits.

Most of the changes made to the Young Adult questionnaire for 2018 have been made to streamline questions and sections in order to cut down on the amount of time it takes for a respondent to complete an interview. The Young Adult sample will includes 663 respondents ages 12-22 and 5,663 respondents age 23 and older in Round 28.

The questions added to the Young Adult questionnaire expand our understanding of both physical and mental/emotional health and well-being such as gender identity and sexual orientation, resiliency, loneliness and social isolation, self-worth, and social cognition.

III. Desired Focus of Comments

The BLS is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: National Longitudinal Survey of Youth 1979.

OMB Number: 1220-0109.

Type of Review: Revision, with change, of a previously approved collection.

Affected Public: Individuals or households.

Estimated Total Burden Hours
Form | Total respondents | Frequency | Total responses | Average time per response (minutes) | Estimated total burden (hours)
NLSY79 Round 27 Main Survey | 6,900 | Biennially | 6,900 | 75 | 8,625
Round 27 Validation Interviews | 10 | Biennially | 10 | 6 | 1
Young Adult Survey (Ages 12 to 13) | 20 | Biennially | 20 | 50 | 17
Young Adult Survey (Ages 14 to 18) | 294 | Biennially | 294 | 66 | 323
Young Adult Survey (Ages 19 to 24) | 962 | Biennially | 962 | 63 | 1,010
Young Adult Survey, Grant component (Age 25 to 28), interview | 1,210 | Biennially | 1,210 | 60 | 1,210
Young Adult Survey, Grant component (Age 29 and older), interview | 2,574 | Biennially | 2,574 | 70 | 3,003
Totals ¹ | 11,960 |  | 11,970 |  | 14,189
¹ The total number of 11,960 respondents across all the survey instruments is a mutually exclusive count that does not include the 10 reinterview respondents, who were previously counted among the main and young adult survey respondents.

Comments submitted in response to this notice will be summarized and/or included in the request for Office of Management and Budget approval of the information collection request; they also will become a matter of public record.

Signed at Washington, DC, this 19th day of December 2017.
Kimberley D. Hill,
Chief, Division of Management Systems.

[FR Doc. 2017-27662 Filed 12-22-17; 8:45 am]

BILLING CODE 4510-24-P